DEPARTMENT OF HEALTH AND HUMAN SERVICES

[Document Identifier OS-4040-0009]

Agency Information Collection Request; 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-5806.

Proposed Project: SF-424D (Assurances—Construction Programs)—Extension—OMB No. 4040-0009—Grants.gov.

Abstract: The Office of Grants.gov is requesting the extension of the currently OMB approved SF-424D form. The form is being renewed with the following minor adjustments: The legal citations have been updated to reflect changes in location within the United States Code. The Trafficking Victims Protection Act of 2000 (Section 106), as amended (22 U.S.C. 7104 (g) has been added in Section 19. This form can be utilized by up to 26 Federal grant making agencies.

The SF-424D is used to provide information on required assurances when applying for construction projects under Federal grants. The Federal awarding agencies use information reported on the form for the evaluation of award and general management of Federal assistance program awards. The only information collected on the form is the applicant signature, title and date submitted.

Estimated Annualized Burden Table
Agency | Number of respondents | Number of responses per respondent | Average burden per response (in hours) | Total burden hours
VA | 163 | 1.24 | 26/60 | 88
DOT | 134 | 1 | 49/60 | 109
DOD | 3 | 1 | 18/60 | 1
DHS | 2608 | 1 | 30/60 | 1304
HHS | 400 | 1.8 | 20/60 | 240
DOI | 2535 | 1.31 | 136/60 | 7550
DOC | 225 | 1 | 15/60 | 56
Total |  |  |  | 9348

Seleda M. Perryman,
Office of the Secretary, Paperwork Reduction Act Clearance Officer.

[FR Doc. 2010-18799 Filed 7-30-10; 8:45 am]

BILLING CODE 4150-AE-P